DEPARTMENT OF ENERGY

Federal Energy Regulatory Commission

[Docket No. CP22-34-000]

Southern Natural Gas Company, LLC; Notice of Request for Extension of Time

Take notice that on February 28, 2023, Southern Natural Gas Company, L.L.C (SNG) requested that the Federal Energy Regulatory Commission (Commission) grant an extension of time, until April 4, 2023, to complete its North System 2022 Project. SNG received a prior notice authorization for the North System 2022 Project on March 5, 2022 which authorized: (1) the construction of approximately 2.2 miles of 8-inch-diameter pipeline (Cordova Connector Line) in Walker County, Alabama; (2) the modification of existing facilities along the SNG system in Walker, Morgan, Calhoun, Jefferson, and Tuscaloosa counties, Alabama; and (3) the re-wheeling the existing Compressor Unit #1 at SNG's Providence Compressor Station in Tuscaloosa County, Alabama. The commission's prior notice regulations require SNG to complete the construction of the North System 2022 Project and make it available for service within one year from issuance, or by March 4, 2023.¹

¹ 18 CFR 157.207(c).

In SNG's request for an extension of time, SNG stated that as the construction of the Project was nearing completion, SNG determined that for operational safety a Remote Terminal Unit needed to be relocated to provide a 25-foot hazardous area radius with additional equipment at its Cordova Start site. Due to this scope addition and rainy condition SNG requests an extension of time in which to complete the Project from the one-year date of March 4, 2023, to the new projected completion date of April 4, 2023.

This notice establishes a 15-calendar day intervention and comment period deadline. Any person wishing to comment on SNG's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the Certificate Order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on those extension requests that are uncontested.

³ Contested proceedings are those where an intervenor disputes any material issue of the filing. 18 CFR 385.2201(c)(1) (2020).

⁴ Algonquin Gas Transmission, LLC, 170 FERC ¶ 61,144, at P 40 (2020).

⁵ Id. P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically should submit an original copy of the protest or intervention by U.S. mail to Kimberly D. Bose, Secretary Federal Energy Regulatory Commission, 888 First Street NE, Washington, DC 20426. Submissions by any other courier in docketed proceedings should be delivered to, Kimberly D. Bose, Secretary, Federal Energy Regulatory Commission, 12225 Wilkins Avenue, Rockville, Maryland 20852.

Comment Date: 5:00 p.m. Eastern Time on March 21, 2023.

Dated: March 6, 2023.
Kimberly D. Bose,
Secretary.

[FR Doc. 2023-04998 Filed 3-9-23; 8:45 am]

BILLING CODE 6717-01-P